SECURITIES AND EXCHANGE COMMISSION

[Release No. 34-96136A; File No. SR-FICC-2022-006]

Self-Regulatory Organizations; Fixed Income Clearing Corporation; Order Granting Approval of Proposed Rule Change To Increase the Minimum Required Fund Deposit for Government Securities Division Netting Members and Sponsoring Members, and Make Other Changes; Correction

November 3, 2022.

AGENCY: Securities and Exchange Commission.

ACTION: Order; correction.

SUMMARY: The Securities and Exchange Commission published a document in the Federal Register on October 28, 2022, concerning an Order Granting Approval of Proposed Rule Change To Increase the Minimum Required Fund Deposit for Government Securities Division Netting Members and Sponsoring Members, and Make Other Changes. The document contained a typographical error.

FOR FURTHER INFORMATION CONTACT: Naomi P. Lewis, Securities and Exchange Commission, 100 F Street NE, Washington, DC 20549, (202) 551-5400.

Correction

In the Federal Register of October 28, 2022, in FR Doc. 2022-23482, on page 65271, in the third column, in the last paragraph, on the 51st and 52nd lines, remove the reference to “as modified by Partial Amendment No. 1,”.

Dated: November 3, 2022.
J. Matthew DeLesDernier,
Deputy Secretary.

[FR Doc. 2022-24428 Filed 11-8-22; 8:45 am]

BILLING CODE 8011-01-P